DEPARTMENT OF AGRICULTURE

Forest Service

Shasta Trinity National Forest, South Fork Management Unit, California Salt Timber Harvest and Fuels Hazard Reduction Project

AGENCY: USDA Forest Service.

ACTION: Notice of intent to prepare a supplemental environmental impact statement.

SUMMARY: This notice revises the previous notice of intent, published on March 26, 2008, Vol. 73, No. 59, pages 15966 through 15968, to prepare an environmental impact statement for the Salt Timber Harvest and Fuels Reduction Project (Salt Project). A supplemental environmental impact statement will be prepared for the Salt Project to supplement wildlife management indicator assemblage analysis. This notice and supplement pertains only to the wildlife management indicator assemblage analysis for the Salt Project.

DATES: The draft supplemental environmental impact statement is expected July 2010, there will be a public comment period on the draft and then the final supplemental environmental impact statement is expected May 2011.

FOR FURTHER INFORMATION CONTACT: Bobbie DiMonte Miller, Shasta-Trinity National Forest, 3644 Avtech Parkway, Redding, CA 96002; telephone (530) 226-2425, e-mail bdimontemiller@fs.fed.us. Individuals who use telecommunication devices for the deaf (TDD) may call the Federal Information Relay Service (FIRS) at 1-800-877-8339 between 8 a.m. and 8 p.m., Eastern Time, Monday through Friday.

SUPPLEMENTARY INFORMATION: The Forest Service is proposing to prepare a supplement to the final environmental impact statement for the Salt Project in accordance with FSH 1909.15, Chapter 10, Section 18.1 and Section 18.2.

J. Sharon Heywood, Shasta-Trinity National Forest Supervisor, signed a Record of Decision on October 20, 2009, based on the Salt Project Final Environmental Impact Statement (FEIS). On December 21, 2009, Denise Boggs filed a notice of appeal on behalf of Conservation Congress, Citizens for Better Forestry, Environmental Protection Information Center and Kiamath Forest Alliance. On February 5, 2010, Appeal Reviewing Officer (ARO) Tern Marceron, Forest Supervisor at Lake Tahoe Basin Management Unit, recommended that the Forest Supervisor's decision be affirmed on all issues with the exception of wildlife management indicator assemblage analysis. The ARO determined that the Salt Project FEIS did not document the effects of project alternatives on key habitat components consistent with the Shasta-Trinity National Forest Land and Resource Management Plan. The Appeal Deciding Officer agreed with the ARO's analysis. This notice pertains only to the supplement of management indicator assemblage effects information and analyses.

Purpose and Need for Action

Because the supplement will only address the additional wildlife management indicator assemblage information and analyses, the purpose and need for action remains the same as described in the October 2009 Salt Project FEIS, Chapter 1, pages 3 through 16.

Proposed Action

The proposed action is the same as described in Chapter 1 of the October 2009 Salt Project FEIS (Chapter 1, pages 16 & 17). That document is available on the Shasta-Trinity National Forest Web site at www.fs.usda.gov/stnf. Under Highlights click on Ongoing NEPA projects.

Responsible Official

J. Sharon Heywood, Shasta-Trinity National Forest Supervisor, 3644 Avtech Parkway, Redding, CA 96002.

Nature of Decision To Be Made

The Responsible Official will review the supplemental information and determine what, if any, modifications should be made to the October 20, 2009, decision. A new decision will be issued.

Scoping Process

Scoping is not required for supplements to environmental impact statements (40 CFR 1502.9(c)(4). A history of scoping and public involvement to date, starting in 2006, is detailed in Chapter 1 of the October 2009 Salt Project FEIS (Chapter 1, pages 17-18).

Dated: April 28, 2010.
Scott G. Armentrout,
Deputy Forest Supervisor, Shasta-Trinity National Forest.

[FR Doc. 2010-10471 Filed 5-6-10; 8:45 am]

BILLING CODE 3410-11-M